DEPARTMENT OF COMMERCE

International Trade Administration

[A-570-051, C-570-052]

Certain Hardwood Plywood Products From the People's Republic of China: Final Scope Determination and Affirmative Final Determination of Circumvention of the Antidumping and Countervailing Duty Orders

AGENCY: Enforcement and Compliance, International Trade Administration, Department of Commerce.

SUMMARY: The U.S. Department of Commerce (Commerce) determines that imports of certain hardwood plywood products (hardwood plywood), completed in the Socialist Republic of Vietnam (Vietnam) using plywood inputs and components (face veneer, back veneer, and/or either an assembled core or individual core veneers) manufactured in the People's Republic of China (China), are circumventing the antidumping duty (AD) and countervailing duty (CVD) orders on hardwood plywood from China.

DATES: Applicable July 20, 2023.

FOR FURTHER INFORMATION CONTACT: Rachel Jennings, AD/CVD Operations, Office V, Enforcement and Compliance, International Trade Administration, U.S. Department of Commerce, 1401 Constitution Avenue NW, Washington, DC 20230; telephone: (202) 482-1110.

SUPPLEMENTARY INFORMATION:

Background

On July 29, 2022, Commerce published the preliminary determination ¹ for the circumvention and scope inquiries of the AD and CVD orders on hardwood plywood from China which were assembled in Vietnam using hardwood plywood inputs sourced from China.² We invited parties to comment on the Preliminary Determination. A summary of events that occurred since Commerce published the Preliminary Determination, as well as a full discussion of the issues raised by parties for this final determination, may be found in the Issues and Decision Memorandum.³ Commerce conducted this scope inquiry in accordance with 19 CFR 351.225(c) and (h), and this circumvention inquiry in accordance with section 781(b) of the Tariff Act of 1930, as amended (the Act).

¹ See Certain Hardwood Plywood Products from the People's Republic of China: Preliminary Scope Determination and Affirmative Preliminary Determination of the Antidumping and Countervailing Duty Orders, 87 FR 45753 (July 29, 2022) (Preliminary Determination), and accompanying Preliminary Decision Memorandum.

² See Certain Hardwood Plywood Products from the People's Republic of China: Amended Final Determination of Sales at Less Than Fair Value, and Antidumping Duty Order, 83 FR 504 (January 4, 2018); and Certain Hardwood Plywood Products from the People's Republic of China: Countervailing Duty Order, 83 FR 513 (January 4, 2018) (collectively, Orders).

³ See Memorandum, “Issues and Decision Memorandum for Circumvention and Scope Inquiries of the Antidumping Duty and Countervailing Duty Orders on Certain Hardwood Plywood Products from the People's Republic of China,” dated concurrently with, and hereby adopted by, this notice (Issues and Decision Memorandum).

Scope of the Orders

The merchandise covered by the scope of these Orders is hardwood plywood and decorative plywood from China. A complete description of the scope of the Orders is contained in the Issues and Decision Memorandum.⁴

⁴ Id.

Merchandise Subject To Scope and Circumvention Inquiries

These scope and circumvention inquiries cover hardwood plywood exported to the United States that was completed in Vietnam using: (1) face/back veneers and assembled core components (e.g., veneer core platforms) manufactured in China; (2) fully assembled veneer core platforms manufactured in China and face/back veneer produced in Vietnam or third countries; (3) multi-ply panels of glued core veneers manufactured in China and combined in Vietnam to produce veneer core platforms and combined with either face and/or back veneer produced in China, Vietnam, or a third country; (4) face/back veneers and individual core veneers produced in China; and (5) individual core veneers manufactured in China and processed into a veneer core platform ⁵ in Vietnam and combined with face/back veneer produced in Vietnam or a third country.

⁵ A veneer core platform is defined as two or more wood veneers that form the core of an otherwise completed hardwood plywood product (i.e., a hardwood plywood product to which the outer (face and back) veneers have not yet been affixed).

Methodology

Commerce made these final circumvention findings in accordance with section 781(b) of the Act and 19 CFR 351.225(g).⁶ In the Preliminary Determination, we relied on information placed on the record by the Coalition for Fair Trade in Hardwood Plywood and the Government of Vietnam, and information we placed on the record. We also relied on the facts available under section 776(a) of the Act, including facts available with adverse inferences under section 776(b) of the Act, where appropriate. In particular, we requested information from numerous companies in Vietnam in conducting these inquiries. While we received responses from the majority of these companies, several companies failed to respond to our initial quantity and value (Q&V) questionnaire and/or a supplemental Q&V questionnaire and additional companies provided information that either contained significant discrepancies and inconsistencies or was misleading.⁷ Therefore, we preliminarily found that these companies withheld information, failed to provide information by the deadline or in the form and manner requested, and significantly impeded these inquiries. Thus, we found that they failed to cooperate to the best of their abilities; thereby, we have used adverse inferences when selecting from among the facts otherwise available on the record for certain aspects of the Preliminary Determination, pursuant to sections 776(a) and (b) of the Act. After considering comments from interested parties, for this final determination, we have determined, based on adverse inferences, that 37 companies produce hardwood plywood under all five of the production scenarios subject to these inquiries. Additionally, we determine that these 37 companies ⁸ are precluded from participating in the certification program we established for applicable exports of hardwood plywood from Vietnam. For a full description of the methodology underlying the final determination, see the Issues and Decision Memorandum.

⁶ Commerce significantly revised its scope regulations on September 20, 2021, with an effective date of November 4, 2021. See Regulations to Improve Administration and Enforcement of Antidumping and Countervailing Duty Laws, 86 FR 52300 (September 20, 2021). The amendments to 19 CFR 351.225 apply to scope inquiries for which a scope ruling application is filed, as well as any scope inquiry self-initiated by Commerce, on or after November 4, 2021. The newly promulgated 19 CFR 351.226 applies to circumvention inquiries for which a circumvention request is filed, as well as any circumvention inquiry self-initiated by Commerce, on or after November 4, 2021. We note that these scope and circumvention inquiries were initiated prior to the effective date of the new regulations, and, thus, any reference to the regulations is to the prior version of the regulations.

⁷ See Preliminary Determination, 87 FR at Appendix V for a list of companies that either failed to respond to our requests for information or provided unreliable information.

⁸ Id.

Analysis of Comments Received

All issues raised in the case and rebuttal briefs by parties in these inquiries are addressed in the Issues and Decision Memorandum. A list of the issues raised is attached to this notice as Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Scope Ruling

As detailed in the Issues and Decision Memorandum, we are revising the preliminary scope ruling and find that products produced under scenarios one, two, and three, are not covered by the scope of the Orders.

Final Affirmative Circumvention Determination

As detailed in the Issues and Decision Memorandum, we have modified the preliminary circumvention determination for this final determination. In the Preliminary Determination, we found products produced under scenarios four and five to be circumventing the Orders. For this final determination, we find that products produced under all five of the production scenarios subject to these inquiries are circumventing the Orders. Accordingly, we determine, pursuant to section 781(b) of the Act and 19 CFR 351.225(g), that imports of hardwood plywood completed in Vietnam are circumventing the Orders. Additionally, as discussed in the Issues and Decision Memorandum,⁹ we are expanding the period of the ongoing administrative reviews to also include the earliest entry from Vietnam suspended as a result of our Preliminary Determination through December 31, 2021. We are also allowing interested parties an opportunity to request a review of their entries of hardwood plywood exported from Vietnam and entered during this expanded period of review (i.e., the earliest entry from Vietnam suspended as a result of our Preliminary Determination through December 31, 2022). Commerce hereby notifies interested parties that requests for reviews for entries made during this period are due 14 days after the publication of this final determination in the Federal Register notice. We made certain changes to the certification program regarding certain companies' eligibility to participate. These changes are also discussed in the Issues and Decision Memorandum.

⁹ See Issues and Decision Memorandum at Comment 13.

Continuation of Suspension of Liquidation

As a result of this determination, and consistent with 19 CFR 351.225(l)(3), we will instruct CBP to continue to suspend the liquidation and require a cash deposit of estimated duties, at the applicable rates, on entries that are entered, or withdrawn from warehouse, for consumption on or after June 17, 2020, the date of publication of initiation of these inquiries in the Federal Register.¹⁰

¹⁰ See Initiation Notice.

Hardwood plywood assembled in Vietnam under scenarios other than the five production scenarios identified above are not subject to these inquiries. Therefore, cash deposits are not required for such merchandise, subject to the following certification requirements.¹¹ The non-cooperative exporters listed in Appendix V are not eligible to participate in this certification program.¹² Accordingly, CBP shall suspend the entry and collect cash deposits for entries of merchandise produced and/or exported by these non-cooperative companies at the AD rate established for the China-wide entity (183.36 percent) and the CVD rate established for all other Chinese producers and/or exporters (22.98 percent), pursuant to the Orders.

¹¹ See Appendix II for the certification requirements and Appendix III for the importer certification.

¹² See, e.g., Issues and Decision Memorandum at Comments 7-11.

In the situation where no certification is provided for an entry, Commerce intends to instruct CBP to suspend liquidation of the entry and collect cash deposits at the rates applicable under the Orders (i.e., the AD rate established for the China-wide entity (183.36 percent) and the CVD rate established for all-other Chinese producers/exporters (22.98 percent)).¹³

¹³ See Orders.

Certification Requirements

If an exporter of hardwood plywood assembled in Vietnam claims that its hardwood plywood was not produced using any of the Chinese hardwood plywood input scenarios subject to these inquiries, it must prepare and maintain an exporter certification and documentation supporting the exporter certification (see Appendix IV). In addition, importers of such hardwood plywood must prepare and maintain an importer certification (see Appendix III) as well as documentation to support the importer certification. Besides the importer certification, the importer must also maintain a copy of the exporter certification (see Appendix IV), and relevant supporting documentation from the exporter of the hardwood plywood assembled in Vietnam that was not produced using any of the Chinese hardwood plywood input scenarios subject to these inquiries.

Administrative Protective Order

This notice will serve as the only reminder to all parties subject to an administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

Notification to Interested Parties

This determination is issued and published in accordance with section 781(b) of the Act and 19 CFR 351.225(f).

Dated: July 14, 2023.
Lisa W. Wang,
Assistant Secretary for Enforcement and Compliance.

Appendix I

List of Topics Discussed in the Issues and Decision Memorandum

I. Summary

II. Background

III. Scope of the Orders

IV. Scope of the Scope and Circumvention Inquiries

V. Changes Since the Preliminary Determination

VI. Discussion of the Issues

Comment 1: Whether Commerce's Circumvention Inquiry Was Procedurally Flawed

Comment 2: Whether Assembly in Vietnam Is Minor or Insignificant

Comment 3: Whether Pattern of Trade Information Supports an Affirmative Determination

Comment 4: Whether There Is Record Evidence that Supports an Affirmative Determination

Comment 5: Whether Commerce Properly Rejected Untimely Filed New Factual Information (NFI)

Comment 6: Whether Commerce Properly Found Discrepancies, Errors, and Inconsistencies in Responses

Comment 7: Whether Commerce Properly Applied Adverse Facts Available (AFA) to Non-Responsive Companies

Comment 8: Whether Commerce's Reliance on AFA for Certain Companies Is Supported by Substantial Evidence

Comment 9: Whether Commerce Should Apply AFA to Cam Lam Vietnam Joint Stock Company (Cam Lam)

Comment 10: Whether Commerce Should Apply AFA to Certain Other Verified Companies

Comment 11: Whether Commerce Should Apply AFA to TL Trung Viet Company Limited (TL Trung) and VVAT Company Limited (VVAT)

Comment 12: Whether Commerce Should Revise its Customs Instructions and Certification Program to Exclude Merchandise

Comment 13: How Commerce Should Address Procedural and Equity Concerns

Comment 14: Whether Commerce Should Apply a Negative Determination to Certain Companies

Comment 15: Whether Commerce's Certification Decision Expands the Scope of these Inquiries

VII. Recommendation

Appendix II

Certification Requirements

If an importer imports certain hardwood plywood products (hardwood plywood) from Vietnam and claims that the hardwood plywood was not produced using plywood inputs and components (face veneer, back veneer, and/or either an assembled core or individual core veneers) manufactured in the People's Republic of China (China), the importer is required to complete and maintain the importer certification attached hereto as Appendix III and all supporting documentation. Where the importer uses a broker to facilitate the entry process, it should obtain the entry summary number from the broker. Agents of the importer, such as brokers, however, are not permitted to make this certification on behalf of the importer.

The exporter of such merchandise is required to complete and maintain the exporter certification, attached as Appendix IV, and is further required to provide the importer a copy of that certification and all supporting documentation. The party that made the sale to the United States should fill out the exporter certification.

The deadline to submit certifications for unliquidated entries on or after June 17, 2020, and until August 28, 2022 is thirty days after the deadline for this final determination, i.e., August 14, 2023.¹⁴ For all such entries, exporters and importers should use the appropriate certifications provided in the appendices to the Preliminary Determination. As explained in the Preliminary Determination at Appendix II, for entries after August 28, 2022, through the date of publication of this notice in the Federal Register, for which certifications are required, importers should have completed the required certification at or prior to the date of entry summary, and exporters should have completed the required certification and provided it to the importer at or prior to the date of shipment. Such certifications were included as appendices to the Preliminary Determination.

¹⁴ See, e.g., Certain Hardwood Plywood Products from the People's Republic of China: Preliminary Scope Determination and Affirmative Preliminary Determination of Circumvention of the Antidumping and Countervailing Duty Orders; Extension of Deadline to Certify Certain Entries, 87 FR 75231 (December 8, 2022).

For entries on or after the date of publication of this notice in the Federal Register, for which certifications are required, importers should complete the required certification at or prior to the date of entry summary, and exporters should complete the required certification and provide it to the importer at or prior to the date of shipment. Such certifications are included as appendices to this notice.

The importer and exporter are also required to maintain sufficient documentation supporting their certifications. The importer will not be required to submit the certifications or supporting documentation to U.S. Customs and Border Protection (CBP) as part of the entry process at this time. However, the importer and the exporter will be required to present the certifications and supporting documentation to Commerce and/or CBP, as applicable, upon request by the respective agency. Additionally, the claims made in the certifications and any supporting documentation are subject to verification by Commerce and/or CBP. The importer and exporter are required to maintain the certifications and supporting documentation for the later of: (1) a period of five years from the date of entry or (2) a period of three years after the conclusion of any litigation in United States courts regarding such entries.

In the situation where no certification is maintained for an entry, and AD/CVD orders on hardwood plywood from China potentially apply to that entry, Commerce intends to instruct CBP to continue to suspend the entry and collect cash deposits at the rate applicable under the Orders (i.e., the AD rate established for the China-wide entity (183.36 percent) and the CVD rate established for all-other Chinese producers/exporters (22.98 percent)).

Appendix III

Importer Certification

I hereby certify that:

(A) My name is {IMPORTING COMPANY OFFICIAL'S NAME} and I am an official of {NAME OF IMPORTING COMPANY}, located at {ADRESS OF IMPORTING COMPANY}.

(B) I have direct personal knowledge of the facts regarding the importation into the Customs territory of the United States of the hardwood plywood completed in Vietnam that entered under entry summary number(s), identified below, and are covered by this certification. “Direct personal knowledge” refers to facts the certifying party is expected to have in its own records. For example, the importer should have “direct personal knowledge” of the importation of the product (e.g., the name of the exporter) in its records;

(C) I have personal knowledge of the facts regarding the production of the imported products covered by this certification. “Personal knowledge” includes facts obtained from another party, (e.g., correspondence received by the importer (or exporter) from the producer regarding the source of the hardwood plywood inputs used to produce the imported products);

(D) This certification applies to the following entries (repeat this block as many times as necessary):

Entry Summary #:

Entry Summary Line Item #:

Foreign Seller:

Foreign Seller's Address:

Foreign Seller's Invoice #:

Foreign Seller's Invoice Line Item #:

Country of Origin of core veneers/veneered panels/veneer core platforms:

(E) The hardwood plywood completed in Vietnam was not produced under any of the production scenarios subject to these certifications:

1. Face veneer, back veneer, and assembled core components (e.g., veneer core platforms (see note below)) manufactured in China and assembled in Vietnam;

2. Fully assembled veneer core platforms manufactured in China that are combined in Vietnam with face and/or back veneers produced in Vietnam or third countries;

3. Multi-ply panels of glued core veneers manufactured in China that are combined in Vietnam to produce veneer core platforms and combined with either a face and/or back veneer produced in China, Vietnam, or a third country;

4. Face veneer, back veneer, and individual core veneers produced in China and assembled into hardwood plywood in Vietnam; and

5. Individual core veneers manufactured in China and processed into a veneer core platform in Vietnam and combined with a face and/or back veneer produced in Vietnam or other third country.

Note: A veneer core platform is defined as two or more wood veneers that form the core of an otherwise completed hardwood plywood product (i.e., a hardwood plywood product to which the outer (face and back) veneers have not yet been affixed).

(F) I understand that {IMPORTING COMPANY} is required to maintain a copy of this certification and sufficient documentation supporting this certification (i.e., documents maintained in the normal course of business, or documents obtained by the certifying party, for example, certificates of origin, production records, invoices, USDA Plant and Plant Product Declaration Form etc.) for the later of: (1) a period of five years from the date of entry; or (2) a period of three years after the conclusion of any litigation in the United States courts regarding such entries;

(G) I understand that {IMPORTING COMPANY} is required to provide this certification and supporting records, upon request, to U.S. Customs and Border Protection (CBP) and/or the Department of Commerce (Commerce);

(H) I understand that {IMPORTING COMPANY} is required to maintain a copy of the exporter's certification (attesting to the production and/or export of the imported merchandise identified above) and supporting documentation, for the later of: (1) a period of five years from the date of entry; or (2) a period of three years after the conclusion of any litigation in United States courts regarding such entries;

(I) I understand that {IMPORTING COMPANY} is required to maintain and provide a copy of the exporter's certification and supporting documentation, upon request, to CBP and/or Commerce;

(J) I understand that the claims made herein, and the substantiating documentation, are subject to verification by CBP and/or Commerce;

(K) I understand that failure to maintain the required certification and supporting documentation and/or failure to substantiate the claims made herein and/or failure to allow CBP and/or Commerce to verify the claims made herein, may result in a de facto determination that all entries to which this certification applies are within the scope of the antidumping duty (AD)/countervailing duty (CVD) orders on hardwood plywood from China. I understand that such finding will result in:

○ suspension of liquidation of all unliquidated entries (and entries for which liquidation has not become final) for which these requirements were not met;

○ the requirement that the importer post applicable AD and/or CVD cash deposits (as appropriate) equal to the rates determined by Commerce; and

○ the revocation of {NAME OF IMPORTING COMPANY}'s privilege to certify that future imports of hardwood plywood are not produced under any of the production scenarios subject to these certifications.

(L) I understand that agents of the importer, such as brokers, are not permitted to make this certification;

(M) This certification was completed by the time of filing the entry summary; and

(N) I am aware that U.S. law (including, but not limited to, 18 U.S.C. 1001) imposes criminal sanctions on individuals who knowingly and willfully make material false statements to the U.S. government.

Signature

{NAME OF COMPANY OFFICIAL}

{TITLE}

{DATE}

Appendix IV

Exporter Certification

I hereby certify that:

(A) My name is {COMPANY OFFICIAL'S NAME} and I am an official of {NAME OF EXPORTING COMPANY}, located at {ADDRESS OF EXPORTING COMPANY}.

(B) I have direct personal knowledge of the facts regarding the production and exportation to the Customs territory of the United States of the hardwood plywood identified below. “Direct personal knowledge” refers to facts the certifying party is expected to have in its own books and records. For example, an exporter should have “direct personal knowledge” of the producer's identity and location;

(C) The hardwood plywood completed in Vietnam was not produced under any of the following production scenarios:

1. Face veneer, back veneer, and assembled core components (e.g., veneer core platforms (see note below) manufactured in China and assembled in Vietnam;

2. Fully assembled veneer core platforms manufactured in China that are combined in Vietnam with face and/or back veneers produced in Vietnam or third countries;

3. Multi-ply panels of glued core veneers manufactured in China that are combined in Vietnam to produce veneer core platforms and combined with either a face and/or back veneer produced in China, Vietnam, or a third country;

4. Face veneer, back veneer, and individual core veneers produced in China and assembled into hardwood plywood in Vietnam; and

5. Individual core veneers manufactured in China and processed into a veneer core platform in Vietnam and combined with a face and/or back veneer produced in Vietnam or other third country.

Note: A veneer core platform is defined as two or more wood veneers that form the core of an otherwise completed hardwood plywood product (i.e., a hardwood plywood product to which the outer (face and back) veneers have not yet been affixed).

(D) This certification applies to the following sales to {NAME OF U.S. CUSTOMER}, located at {ADDRESS OF U.S. CUSTOMER} (repeat this block as many times as necessary):

Foreign Seller's Invoice # to U.S. Customer:

Foreign Seller's Invoice to U.S. Customer Line item #:

Producer's Invoice # to Foreign Seller: (If the foreign seller and the producer are the same party, put NA here.)

Producer's Invoice # Foreign Seller: (If the foreign seller and the producer are the same party, put NA here.)

Name of core veneers/veneered panel/veneer core platform producer:

(E) The hardwood plywood products covered by this certification were shipped to {NAME OF U.S. PARTY TO WHOM MERCHANDISE WAS SHIPPED}, located at {U.S. ADDRESS TO WHICH MERCHANDISE WAS SHIPPED}.

(F) I understand that {NAME OF EXPORTING COMPANY} is required to maintain a copy of this certification and sufficient documentation supporting this certification (i.e., documents maintained in the normal course of business, or documents obtained by the certifying party, for example, production records, invoices, etc.) for the later of: (1) a period of five years from the date of entry; or (2) a period of three years after the conclusion of any litigation in the United States courts regarding such entries;

(G) I understand that {NAME OF EXPORTING COMPANY} must provide this Exporter Certification and supporting documentation to the U.S. importer by the time of shipment.

(H) I understand that failure to maintain the required certification and supporting documentation, failure to substantiate the claims made herein, and/or failure to allow CBP and/or Commerce to verify the claims made herein, may result in a de facto determination that all entries to which this certification applies are within the scope of the antidumping duty (AD)/countervailing duty (CVD) orders on hardwood plywood from China. I understand that such a finding will result in:

○ suspension of all unliquidated entries (and entries for which liquidation has not become final) for which these requirements were not met;

○ the requirement that the importer post applicable AD and/or CVD cash deposits (as appropriate) equal to the rates as determined by Commerce; and

○ the revocation of {NAME OF EXPORTING COMPANY}'s privilege to certify that future imports of hardwood plywood are not produced under any of the production scenarios subject to these certifications.

(J) This certification was completed at time of shipment;

(K) I am aware that U.S. law (including, but not limited to, 18 U.S.C. 1001) imposes criminal sanctions on individuals who knowingly and willfully make material false statements to the U.S. government.

Signature

{NAME OF COMPANY OFFICIAL}

{TITLE}

{DATE}

Appendix V

Companies That Failed To Cooperate

1. Arrow Forest International Co., Ltd

2. BAC Son Woods Processing Joint Stock Company

3. BHL Thai Nguyen Corp.

4. Cam Lam Joint Stock Company

5. Eagle Industries Company Limited

6. Golden Bridge Industries Pte. Ltd.

7. Govina Investment Joint Stock Company

8. Greatriver Wood Co. Ltd.

9. Groll Ply and Cabinetry

10. Hai Hien Bamboo Wood Joint Stock Company

11. Her Hui Wood (Vietnam) Co., Ltd.

12. Hoang LAM Plywood Joint Stock Co.

13. Huong Son Wood Group Co., Ltd.

14. Innovgreen Thanh Hoa Co. Ltd.

15. Lechenwood Viet Nam Company Limited

16. Long LUU Plywood Production Co., Ltd.

17. Long Phat Construction Investment and Trade Joint Stock Company

18. Plywood Sunshine Ltd. Co.

19. Quang Phat Woods JSC

20. TEKCOM Corporation

21. TL Trung Viet Company Limited

22. VVAT Company Limited

23. Win Faith Trading

24. Zhongjia Wood Company Limited

Companies That Failed To Respond

1. Bao Yen MDF Joint Stock Company

2. BHL Vietnam Investment and Development

3. Dong Tam Production Trading Company Limited

4. Linwood Vietnam Co. Ltd

5. Quoc Thai Forestry Import Export Limited Company

6. Rongjia Woods Vietnam Company Limited

7. Sumec Huongson Wood Group Co. Ltd.

8. Tan Tien Co. Ltd

9. Thang Long Wood Panel Company Ltd.

10. Thanh Hoa Stone Export Company

11. Truong Son North Construction JSC

12. Vietind Co. Ltd.

13. Vietnam Golden Timber Company Limited

[FR Doc. 2023-15431 Filed 7-19-23; 8:45 am]

BILLING CODE 3510-DS-P